FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Benjamin W. McDonough, Deputy Secretary of the Board, 20th Street and Constitution Avenue NW, Washington, DC 20551-0001, not later than January 14, 2026.

A. Federal Reserve Bank of Kansas City (Jeffrey Imgarten, Assistant Vice President) 1 Memorial Drive, Kansas City, Missouri 64198-0001. Comments can also be sent electronically to KCApplicationComments@kc.frb.org:

1. Cynthia Judd Martinez 2020-BHC Grantor Retained Annuity Trust, Lincoln, Nebraska, Paul W. Judd, as trust director, Elkhorn, Nebraska; the Paul W. Judd 2020-BHC Grantor Retained Annuity Trust, Elkhorn, Nebraska, David A. Judd, as trust director, Pomona, Kansas; and Union Bank and Trust Company, as corporate trustee for the aforementioned trusts, Lincoln, Nebraska; to join the Roger Judd Family Group, a group acting in concert, to retain voting shares of Washington 1st Banco, Inc., and indirectly retain voting shares of FNB Washington, both of Washington, Kansas.

Additionally, the David A. Judd 2020-BHC Grantor Retained Annuity Trust, Pomona, Kansas, Cynthia Judd Martinez, as trust director, Lincoln, Nebraska, and Union Bank and Trust Company, as corporate trustee, Lincoln, Nebraska; the Gary W. Judd Trust dated July 22, 2004, Gary W. Judd, as trustee, both of Parkville, Missouri; and the Nancy L. Judd Trust dated May 1, 2007, Nancy L. Judd, as trustee, both of Lincoln, Nebraska; to join the Stanley Judd Family Group, a group acting in concert, to retain voting shares of Washington 1st Banco, Inc., and indirectly retain voting shares of FNB Washington. Cynthia Judd Martinez and Paul W. Judd have been previously permitted by the Federal Reserve System to acquire voting shares of Washington 1st Banco, Inc.

Board of Governors of the Federal Reserve System.
Benjamin W. McDonough,
Deputy Secretary of the Board.

[FR Doc. 2025-23991 Filed 12-29-25; 8:45 am]

BILLING CODE P